DEPARTMENT OF JUSTICE

Antitrust Division

Notice Pursuant to the National Cooperative Research and Production Act of 1993—Sematech, Inc. D/B/A International Sematech

Notice is hereby given that, on August 4, 2011, pursuant to Section 6(a) of the National Cooperative Research and Production Act of 1993, 15 U.S.C. 4301 et seq. (“the Act”), Sematech, Inc. (which is doing business as International SEMATECH) has filed written notifications simultaneously with the Attorney General and the Federal Trade Commission disclosing changes in its membership and its nature and objectives. The notifications were filed for the purpose of extending the Act's provisions limiting the recovery of antitrust plaintiffs to actual damages under specified circumstances. Specifically, Taiwan Semiconductor Manufacturing Corporation, Inc., Hsinchu, Taiwan; United Microelectronics Corporation, Inc., Hsin Chu City, Taiwan; Samsung Electronics Co., Ltd., Yongin-City, Gyeonggi-Do, Republic of Korea; College of Nanoscale Science and Engineering of the University of Albany, State University of New York, Albany, NY; Fuller Road Management Corporation, Inc. of the University of Albany, State University of New York, Albany, NY; Tokyo Electron Limited, Minato-ku, Tokyo, JAPAN; Canon Anelva Corporation, Kanagawa, Japan; Asahi Glass Corporation, Chiyodaku, Tokyo, Japan; FEI Company, Hillsboro, OR; SUSS MicroTec AG, Thiendorf, Germany; ASML Holding N.V., Veldhoven, The Netherlands; KLA-Tencor Corporation, Milpitas, CA; Qualcomm Incorporated, San Diego, CA; Nanosys Inc., Palo Alto, CA; 4DS Inc., Fremont, CA; Intel, Inc., Santa Clara, CA; TSMC, Hsinchu, Taiwan; Hynix Semiconductor Inc., Geonggi-Do, Republic of Korea; Tokyo Electron Limited, Minato-ku, Tokyo, Japan; Rudolph Technologies Inc., Flanders, NJ; ON Semiconductor, Phoenix, AZ; NEXX Systems Inc., San Francisco, CA; Atotech Deutchland GmbH, Berlin, Germany; Altera Corporation, San Jose, CA; Qualcomm Incorporated, San Diego, CA; Analog Devices Inc., Norwood, MA; LSI Corporation, Milpitas, CA; Lasertec Corporation, Yokohama, Japan; ASE Group, Kaohsiung, Taiwan; Fujifilm Electronic Materials, Shizuoka, Japan; Nissan Chemical Industries Ltd., Tokyo, Japan; Sumitomo Electric Industries, Ltd., Tokyo, Japan; JSR Corporation, Sunnyvale, CA; AZ Electronic Materials, Somerville, NJ; Shin-Etsu Chemical Co., LTD, Niigata, Japan; Rohm and Hass Company, Marlborough, MA; Texas Instruments, Inc., Dallas, TX; Micron Technology, Inc., Boise, ID; National Semiconductor, Inc., Santa Clara, CA; Renesas Technology Corporation, Tokyo, Japan; Toshiba Corporation, Yokohama, Japan; Panasonic Semiconductor Discrete Devices Co., Ltd., Kyoto, Japan; Applied Materials Inc., Santa Clara, CA; Edwards Limited, Tewksbury, MA; Texas Instruments, Dallas, TX; Matheson Tr-Gas Inc., Basking Ridge, NJ, have been added as parties to this venture.

Also, Texas Instruments, Inc., Dallas, TX; Freescale Semiconductor, Inc., Austin, TX; Infineon Technologies AG, Dresden, Germany; Qimonda AG, Dresden, Germany; and Advanced Technology Development Facility, Inc., Austin, TX, have withdrawn as parties to this venture.

Additionally, International SEMATECH has begun to recruit and admit program members that only join certain discrete projects and thus only have access to information and intellectual property created under the discrete projects that these lower-tiered members join. Hence, International SEMATECH has four new classes of membership in addition to its traditional core membership: (1) Program—includes integrated circuit manufacturers, semiconductor design companies, and assembly and packaging companies that choose to pay for and receive information and other intellectual property developed in any of Sematech's technical divisions; (2) Associate—includes companies that design, test, make, market, or support materials, equipment, processes, software, systems, or facilities for manufacturing semiconductors and that pay for and receive access to information and other intellectual property that arise under discrete Sematech-led projects; (3) Extreme Ultraviolet Lithography Mask Infrastructure (“EMI”)—includes among its members integrated circuit manufacturers and semiconductor mask makers; and (4) 3D Enablement Center—created to finance and conduct research related to three dimensional (3D) interconnect technologies, which the chip manufacturing and design industries perceive to be a means available to extend Moore's law without the enormous expense associated with development of new lithographic technologies.

International SEMATECH created a new subsidiary called International Sematech Manufacturing Initiative, Inc. (“ISMI”), which is also a Delaware 501(c)(6) membership corporation organized to finance and conduct research and development related to solving semiconductor manufacturing problems. ISMI's emphasis is on solving today's semiconductor manufacturing challenges such as enhancing semiconductor manufacturing equipment productivity, contributing to increased automation in the operation of semiconductor fabrication facilities (“fabs”) and reducing fabs' electricity and water consumption. Sematech created the 450 LLC to finance and conduct research and development necessary to catalyze the introduction into the marketplace of semiconductor manufacturing equipment capable of handling silicon wafers with a diameter of 450mm. The purpose of the 450 LLC is to aggregate funds from integrated circuit manufacturers to finance and participate in this endeavor.

No other changes have been made in either the membership or planned activity of the group research project. Membership in this group research project remains open, and International SEMATECH intends to file additional written notifications disclosing all changes in membership.

On April 22, 1988, International SEMATECH filed its original notification pursuant to Section 6(a) of the Act. The Department of Justice published a notice in the Federal Register pursuant to Section 6(b) of the Act on May 19, 1988 (53 FR 17987).

The last notification was filed with the Department on June 16, 2003. A notice was published in the Federal Register pursuant to Section 6(b) of the Act on August 4, 2003 (68 FR 45855).

Patricia A. Brink,
Director of Civil Enforcement, Antitrust Division.

[FR Doc. 2011-29079 Filed 11-14-11; 8:45 am]

BILLING CODE 4410-11-P